DEPARTMENT OF TRANSPORTATION

Federal Aviation Administration

14 CFR Part 39

[Docket No. FAA-2021-0316; Project Identifier MCAI-2020-00461-E]

RIN 2120-AA64

Airworthiness Directives; GE Aviation Czech s.r.o. (Type Certificate Previously Held by WALTER Engines a.s., Walter a.s., and MOTORLET a.s.) Turboprop Engines

AGENCY: Federal Aviation Administration (FAA), DOT.

ACTION: Notice of proposed rulemaking (NPRM).

SUMMARY: The FAA proposes to adopt a new airworthiness directive (AD) for all GE Aviation Czech s.r.o. (GEAC) H75-200, H80-100, and H80-200 model turboprop engines. This proposed AD was prompted by several reports of engine gas generator speed (Ng) rollbacks occurring below idle on GEAC H75-200, H80-100, and H80-200 model turboprop engines. This proposed AD would require an inspection of a certain part number (P/N) fuel control unit (FCU) and, if deficiencies are detected, replacement of the FCU with a part eligible for installation. The FAA is proposing this AD to address the unsafe condition on these products.

DATES: The FAA must receive comments on this proposed AD by June 4, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12 140, 1200 New Jersey Avenue SE, Washington, DC 20590.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact GE Aviation Czech, Beranových 65 199 02 Praha 9—Letňany, Czech Republic; phone: +420 222 538 111. You may view this service information at the FAA, Airworthiness Products Section, Operational Safety Branch, 1200 District Avenue, Burlington, MA 01803. For information on the availability of this material at the FAA, call (781) 238-7759.

Examining the AD Docket

You may examine the AD docket at https://www.regulations.gov by searching for and locating Docket No. FAA-2021-0316; or in person at Docket Operations between 9 a.m. and 5 p.m., Monday through Friday, except Federal holidays. The AD docket contains this NPRM, the mandatory continuing airworthiness information (MCAI), any comments received, and other information. The street address for Docket Operations is listed above.

FOR FURTHER INFORMATION CONTACT: Barbara Caufield, Aviation Safety Engineer, ECO Branch, FAA, 1200 District Avenue, Burlington, MA 01803; phone: (781) 238-7146; fax: (781) 238-7199; email: barbara.caufield@faa.gov.

SUPPLEMENTARY INFORMATION:

Comments Invited

The FAA invites you to send any written relevant data, views, or arguments about this proposal. Send your comments to an address listed under ADDRESSES. Include “Docket No. FAA-2021-0316; Project Identifier MCAI-2020-00461-E” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Barbara Caufield, Aviation Safety Engineer, ECO Branch, FAA, 1200 District Avenue, Burlington, MA 01803. Any commentary that the FAA receives which is not specifically designated as CBI will be placed in the public docket for this rulemaking.

Background

The European Union Aviation Safety Agency (EASA), which is the Technical Agent for the Member States of the European Community, has issued EASA AD 2020-0082, dated April 1, 2020 (referred to after this as “the MCAI”), to address the unsafe condition on these products. The MCAI states:

Several occurrences have been reported of engine gas generator speed (Ng) rollbacks below idle on engines equipped with an affected part.

The investigation determined that, during these events, the engine control lever (ECL) was set to idle, and identified as contributing factors specific environmental temperatures, possibly in combination with a high power off-take. The idle setting may be used in flight, in particular during the approach phase.

This condition, if not detected and corrected, may lead to loss of engine power and eventually, on a single engine aeroplane, possibly result in loss of control.

To address this potential unsafe condition, GEAC issued the ASB providing applicable instructions.

For the reason described above, this [EASA] AD requires, for engines installed on single-engine aircraft, repetitive functional checks of the affected part and, eventually, replacement with serviceable part.

You may obtain further information by examining the MCAI in the AD docket at https://www.regulations.gov by searching for and locating Docket No. FAA-2021-0316.

FAA's Determination

This product has been approved by EASA and is approved for operation in the United States. Pursuant to our bilateral agreement with the European Community, EASA has notified the FAA of the unsafe condition described in the MCAI and service information. The FAA is issuing this NPRM because the agency evaluated all the relevant information provided by EASA and determined the unsafe condition described previously is likely to exist or develop in other products of the same type design.

Related Service Information Under 1 CFR Part 51

The FAA reviewed GE Aviation Czech Alert Service Bulletin (ASB) No. ASB-H80-73-00-00-0052[00]/ASB-H75-73-00-00-0022[00] (single document), Revision 00, dated February 6, 2020. This service information specifies procedures for performing a functional inspection of the FCU, part number(P/N) LUN 6590.07-8, and replacing the FCU. This service information is reasonably available because the interested parties have access to it through their normal course of business or by the means identified in the ADDRESSES section.

Proposed AD Requirements in This NPRM

This proposed AD would require a functional inspection of the FCU, P/N LUN 6590.07-8, and, if deficiencies are detected, replacement of the FCU with a part eligible for installation. This proposed AD would also require removal and replacement of the FCU,P/N LUN 6590.07-8, during the next engine overhaul or within 44 months, whichever occurs first after the effective date of this AD.

Differences Between This Proposed AD and the Service Information or MCAI

The requirement in EASA AD 2020-0082, dated April 1, 2020, to perform a functional inspection and if applicable, corrective action, is limited to GEAC H75-200, H80-100, and H80-200 model turboprop engines installed on single engine airplanes. This proposed AD does not base compliance on the type of airplane on which the affected engines are installed. In addition, paragraph (g)(2) of this proposed AD requires operators to perform steps 1 through 7 of paragraph 2.1.1 in the ASB while the ASB specifies doing steps 1 through 8. The FAA confirmed with the manufacturer that the reference to step 8 in the ASB is an error.

Costs of Compliance

The FAA estimates that this AD, if adopted as proposed, would affect 33 engines installed on airplanes of U.S. registry.

The FAA estimates the following costs to comply with this proposed AD:

Estimated Costs
Action | Labor cost | Parts cost | Cost per product | Cost on U.S. operators
Functional Inspection of FCU | 0.50 work-hours × $85 per hour = $42.50 | $0 | $42.50 | $1,402.50
Replace FCU | 4 work-hours × $85 per hour = $340 | 25,000 | 25,340 | 836,220

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

GE Aviation Czech s.r.o. (Type Certificate previously held by WALTER Engines a.s., Walter a.s., and MOTORLET a.s.): Docket No. FAA-2021-0316; Project Identifier MCAI-2020-00461-E.

(a) Comments Due Date

The FAA must receive comments on this airworthiness directive (AD) by June 4, 2021.

(b) Affected ADs

None.

(c) Applicability

This AD applies to GE Aviation Czech s.r.o. (GEAC) (Type Certificate previously held by WALTER Engines a.s., Walter a.s., and MOTORLET a.s.) H75-200, H80-100, and H80-200 model turboprop engines.

(d) Subject

Joint Aircraft System Component (JASC) Code 7321, Fuel Control/Turbine Engines.

(e) Unsafe Condition

This AD was prompted by several reports of engine gas generator speed (Ng) rollbacks below idle on GEAC H75-200, H80-100, and H80-200 model turboprop engines with a fuel control unit (FCU), part number (P/N) LUN 6590.07-8, installed. The FAA is issuing this AD to prevent engine Ng rollbacks below idle on engines equipped with an FCU, P/N LUN 6590.07-8. The unsafe condition, if not addressed, could result in loss of engine power and loss of control of the airplane.

(f) Compliance

Comply with this AD within the compliance times specified, unless already done.

(g) Required Actions

(1) Within 100 flight hours (FHs) after the effective date of this AD, and thereafter at intervals not to exceed 100 FHs since the previous inspection, perform a functional inspection of the FCU, P/N LUN 6590.07-8, using the Accomplishment Instructions, paragraph 2.1.1, Ground Check Procedure, of GE Aviation Czech Alert Service Bulletin No. ASB-H80-73-00-00-0052[00]/ASB-H75-73-00-00-0022[00] (single document), Revision 00, dated February 6, 2020 (the ASB).

(2) If, during any functional inspection required by paragraph (g)(1) of this AD, the engine Ng is:

(i) Equal to or greater than 57% up to and including 60%, then no further action is required.

(ii) Equal to or greater than 55% but lower than 57%, then follow the steps 1 through 3 under “Ng speed is equal to or above 55% and below 57%” in the Accomplishment Instructions, paragraph 2.1.2, Ground check results evaluation, of the ASB.

(iii) Below 55%, then follow steps 1 and 2 under “Ng speed is below 55%” in the Accomplishment Instructions, paragraph 2.1.2, Ground check results evaluation, of the ASB.

Note to paragraph (g)(2): In the Accomplishment Instructions, paragraph 2.1.2, of the ASB, where the ASB states “Do steps 1 thru 8 after the FCU adjustment,” do steps 1 through 7 of the Accomplishment Instructions, paragraph 2.1.1, in the ASB.

(3) During the next engine overhaul, or within 44 months, whichever occurs first after the effective date of this AD, remove the FCU, P/N LUN 6590.07-8, and replace it with a part eligible for installation.

(h) Installation Prohibition

After the effective date of this AD, do not install an FCU, P/N LUN 6590.07-8, onto any engine.

(i) Definition

For the purpose of this AD, a part eligible for installation is an FCU, P/N LUN 6590.71-8.

(j) Terminating Action

Installing a part eligible for installation onto an engine as required by paragraph (g)(2) or (3) of this AD, as applicable, constitutes terminating action for the functional inspections required by paragraph (g)(1) of this AD for that engine.

(k) No Reporting Requirements

The reporting requirements specified in paragraph 2.1.2 of the ASB are not required by this AD.

(l) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the certification office, send it to the attention of the person identified in Related Information. You may email your request to: ANE-AD-AMOC@faa.gov.

(2) Before using any approved AMOC, notify your appropriate principal inspector, or lacking a principal inspector, the manager of the local flight standards district office/certificate holding district office.

(m) Related Information

(1) For more information about this AD, contact Barbara Caufield, Aviation Safety Engineer, ECO Branch, FAA, 1200 District Avenue, Burlington, MA 01803; phone: (781) 238-7146; fax: (781) 238-7199; email: barbara.caufield@faa.gov.

(2) Refer to European Union Aviation Safety Agency (EASA) AD 2020-0082, dated April 1, 2020, for more information. You may examine the EASA AD in the AD docket at https://www.regulations.gov by searching for and locating it in Docket No. FAA-2021-0316.

(3) For service information identified in this AD, contact GE Aviation Czech, Beranových 65 199 02 Praha 9—Letňany, Czech Republic; phone: +420 222 538 111. You may view this referenced service information at the FAA, Airworthiness Products Section, Operational Safety Branch, 1200 District Avenue, Burlington, MA 01803. For information on the availability of this material at the FAA, call (781) 238-7759.

Issued on April 14, 2021.
Lance T. Gant,
Director, Compliance & Airworthiness Division, Aircraft Certification Service.

[FR Doc. 2021-08056 Filed 4-19-21; 8:45 am]

BILLING CODE 4910-13-P